DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 78 FR 35936, dated June 14, 2013) is amended to reorganize the National Center for Health Statistics, Centers for Disease Control and Prevention.

Section C-B, Organization and Functions, is hereby amended as follows:

Delete in its entirety the titles and functional statements for the Division of Vital Statistics (CPCC) and insert the following:

Division of Vital Statistics (CPCC). Plans and administers complex data collection systems and conducts a program of methodologic and substantive public health research activities based on the nationwide collection of data from vital records, follow back surveys, and demographic surveys of people in the childbearing ages. (1) Participates in the development of policy, long-range plans, and programs of the Center; (2) directs, plans, and coordinates the vital statistics program of the United States; (3) administers the vital statistics cooperative program, including the National Death Index; (4) develops standards for vital statistics data collection including electronic systems, data reduction, and tabulation; (5) interprets, classifies, and compiles complex demographic, economic, health, and medical data; (6) serves as the United States representative to the World Health Organization (WHO), regarding the International Classification of Diseases (ICD) for mortality data and the classification and coding of cause of death; (7) conducts research to determine cross-national comparability of causes of death to further enhance the ICD and make appropriate recommendations to WHO; (8) conducts research on data collection methodology, survey methodology, data quality and reliability, and statistical computation as related to vital and survey statistics; (9) conducts multidisciplinary research directed toward development of new scientific knowledge on the demographics of reproduction, natality, and mortality; (10) performs theoretical and experimental investigations into the content of the vital statistics data collection effort; (11) develops sophisticated approaches to making vital statistics data available to users, including techniques to avoid disclosure of confidential data; (12) conducts descriptive analyses and sophisticated multivariate analyses that integrate vital statistics data across multiple surveys or data sets; (13) provides technical assistance and consultation to international, State, and local offices with vital registration responsibilities on vital registration, vital statistics, and data processing; (14) researches, designs, develops, and implements state-of-the-art computing systems for collecting, storing, and retrieving vital records and for subsequent analysis and dissemination; (15) conducts methodological research on the tools for evaluation, utilization, and presentation of vital statistics and related survey data and medical classification; (16) assesses the security of the DVS IT systems and data files and develops and implements strategies to minimize any security risks; (17) produces and publishes a wide variety of vital statistics analytic reports and tabulations in multiple formats; and (18) develops and sustains collaborative partnerships within NCHS, CDC, DHHS, and externally with public, private, domestic and international entities on vital statistics programs.

Office of the Director (CPCC1). (1) Participates in the development of policy, long-range plans, and programs of the Center; (2) provides leadership for the monitoring and statistical evaluation of national vital statistics; (3) directs, plans, and coordinates the statistical and research activities of the Division; (4) develops and administers a research and analytic program in registration and vital statistics; (5) develops policy, practices, and management for the National Death Index program; (6) plans and conducts a program to improve the vital registration and statistics program of the U.S.; (7) conducts studies of new vital registration techniques; (8) recommends content and format of model legislation, regulations, standard certificates, and other aids to registration systems; (9) provides international leadership and consultation on vital registration and statistics issues to other countries; (10) establishes collaborative partnerships within NCHS, CDC, DHHS, and externally with public, private, domestic and international entities on vital statistics programs; and (11) manages the vital statistics data request program for the Division.

Data Acquisition, Classification and Evaluation Branch (CPCCB). (1) Provides policy direction to states regarding vital statistics data acquisition and quality control; (2) promotes state participation in the vital statistics cooperative program and the national death index (ND!) program; (3) develops specifications for coding, editing and processing of vital registration and statistics data; (4) develops and administers funding formulas that determine the level of reimbursement to states and the procurement mechanisms to effect this reimbursement; (5) develops and directs a comprehensive statistical quality assurance program to assure that the data received from each registration area are acceptable for national use; (6) provides technical assistance to states, local areas, other countries, and private organizations on data files, software, training, processing and coding of vital statistics data; (7) in consultation with health departments across the U.S., leads and conducts evaluation studies and other research on issues related to the collection of vital statistics; (8) prepares and publishes information obtained from special projects related to vital registration and statistics data; (9) promotes the development and implementation of best statistical practices throughout the U.S. vital statistics system to maximize the utility of vital statistics data; (10) manages the acquisition of vital statistics data from the 57 registration areas to assure a national file of timely and complete data; (11) directs a comprehensive program of technical assistance and consultation related to mortality medical data classification to states, local areas, other countries, and private organizations; (12) conducts methodological research in data preparation and medical classification of mortality data; and (13) interprets, classifies, codes, keys, and verifies medical and demographic information of value to researchers and public policy officials.

Mortality Statistics Branch (CPCCC). (1) Establishes the research agenda for mortality statistics in response to public health priorities; (2) converts identified data needs into statistical and research programs to obtain, evaluate, analyze, and disseminate mortality statistics data; (3) conducts research to improve data collection of vital records, record linkage, and sample survey methodologies related to mortality statistics; (4) performs theoretical and experimental research that improves the content of the mortality statistics data collection effort and the timeliness, availability, and quality of mortality statistics data; (5) conducts research into life tables methodology and produces annual and decennial U.S. and State life tables; (6) recommends content of U.S. Standard Certificates; (7) assesses disclosure risk and develops optimal data release strategies that improve policy analysis and decision-making; (8) prepares and publishes descriptive analyses as well as sophisticated multivariate analyses that integrate data across multiple surveys or data sets; (9) conducts research related to the International Classification of Diseases (ICD) and cause of death classification; (10) conducts national and state-specific comparability studies of cause of death classification to facilitate the study of mortality trends across ICD revisions; (11) designs and conducts methodological research to improve the collection, production, use, and interpretation of mortality-related data; (12) collaborates with other agencies and organizations in the design, implementation, and analysis of vital records surveys; (13) develops and promotes training activities related to the collection, production, use and interpretation of mortality statistics; (14) provides leadership to the international community in the use and adoption of automated mortality medical classification systems; (15) provides nosological assistance and training to DVS medical coding staff and to both nationally and internationally groups in regard to International Classification of Diseases (ICD) information for mortality and new revisions of the ICD; and (16) develops and implements training programs for cause-of-death coding and provides technical assistance to NCHS, other Federal agencies, state, and local governments, non-government agencies, and international agencies.

Reproductive Statistics Branch (CPCCD). (1) Establishes the research agenda for reproductive statistics in response to public health priorities; (2) assesses information data needs in the fields of reproduction, maternal and child health, family formation, growth, and dissolution; (3) plans and develops statistical and research programs to obtain, evaluate, analyze, and disseminate reproductive statistics data to meet these needs; (4) conducts research to improve data collections on vital records, record linkage, and sample survey methodologies related to reproductive statistics; (5) performs theoretical and experimental research that improves the content of the reproductive statistics data collection effort and the timeliness, availability, and quality of reproductive statistics data; (6) assesses disclosure risk and develops optimal data release strategies that improve policy analysis and decision-making; (7) prepares and publishes descriptive analyses of individual data systems as well as sophisticated multivariate analyses that integrate data across multiple surveys or data sets; (8) conducts methodological research to improve statistics on reproduction, maternal and child health, family formation, growth, and dissolution; (9) recommends content of U.S. Standard Certificates; and (10) provides consultation and advice to members of Congress, the press, and a broad range of researchers and institutions at the international, national, State, and local levels on reproductive statistics data.

Information Technology Branch (CPCCE). (1) Conducts research into the design, development, and administration of vital statistics information technology systems; (2) performs systems analysis and computer programming of vital registration data; (3) develops technologies, data architectures, security infrastructure, and database management related to vital records, record linkage, and sample surveys consistent with NCHS, CDC and DHHS information technology requirements, policies and architecture; (4) develops, maintains, and employs state-of-the-art information technologies (e.g., relational data bases, Web-enabled applications, applications development and dissemination activities) associated with vital statistics; (5) develops and maintains systems and databases to support the National Death Index program; (6) provides consultation and expert technical assistance to the Division concerning SQL server, web services, networking applications, and other technologies that may arise; (7) prepares and maintains population databases as well as conducts studies on statistical computation and data quality; (8) designs and implements information technology applications to produce final edited and imputed vital statistics and survey data; (9) provides consultation, policy guidance and expert technical assistance NCHS-wide as well as to a broad range of agencies, institutions, federal, local, and international governments, researchers, and individuals, in regard to vital statistics systems design, administration, and usage; (10) manages national vital statistics data files and databases; (11) develops, enhances, and maintains medical classification software and procedures for collecting and processing of mortality medical data in states and at NCHS following HHS Enterprise Life Cycle Framework; and (12) tests, refines, and updates automated coding systems that assist in the production of mortality data.

Dated: September 13, 2013.
Sherri A. Berger,
Chief Operating Officer, Centers for Disease Control and Prevention.

[FR Doc. 2013-22909 Filed 9-20-13; 8:45 am]

BILLING CODE 4160-18-M